DEPARTMENT OF HOMELAND SECURITY

Coast Guard

33 CFR Part 100

[Docket No. USCG-2009-0996]

RIN 1625-AA08

Special Local Regulation; Hydroplane Races Within the Captain of the Port Puget Sound Area of Responsibility

AGENCY: Coast Guard, DHS.

ACTION: Final rule.

SUMMARY: The Coast Guard is establishing a special local regulation to restrict vessel movement in designated permanent hydroplane race areas in Dyes Inlet, Lake Washington and Lake Sammamish, WA during permitted hydroplane race events. When this special local regulation is activated, and thus subject to enforcement, this rule will limit the movement of non-participating vessels within the regulated race areas immediately prior to, during and immediately following the conclusion of permitted hydroplane marine events. This rule is needed to provide effective control over these events while ensuring the safety of the maritime public.

DATES: This rule is effective March 29, 2011.

ADDRESSES: Comments and material received from the public, as well as documents mentioned in this preamble as being available in the docket, are part of docket USCG-2009-0996 and are available online by going to http://www.regulations.gov, inserting USCG-2009-0996 in the “Keyword” box, and then clicking “Search.” This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail LTJG Ashley M. Wanzer, Waterways Management, Sector Puget Sound, Coast Guard; telephone 206-217-6175, e-mail SectorPugetSoundWWM@uscg.mil. If you have questions on viewing the docket, call Renee V. Wright, Program Manager, Docket Operations, telephone 202-366-9826.

SUPPLEMENTARY INFORMATION:

Regulatory Information

On Tuesday, January 19, 2010, we published a notice of proposed rulemaking (NPRM) entitled Safety Zone Regulation; Hydroplane Races within the Captain of the Port Puget Sound Area of Responsibility in the Federal Register (75 FR 2833). On Wednesday, January 19, 2011, we published a supplemental notice of proposed rulemaking (SNPRM), revising the rulemaking to create a special local regulation designating three permanent hydroplane race areas under 33 CFR part 100 in the Federal Register (76 FR 3057). We did not receive any comments on the NPRM or SNPRM and did not receive any requests for a public meeting. A public meeting was not held.

Under 5 U.S.C. 553(d)(3), the Coast Guard finds that good cause exists for making this rule effective less than 30 days after publication in the Federal Register. Immediate action is necessary to protect life, property and the environment; therefore, a 30-day notice is impracticable. Delaying the effective date would be contrary to the intended objective of promoting safety during these permitted events because the ULHRA Spring Training takes place on 21 April 2011 in the Lake Washington designated race area and this is less than 30 days after publication in the Federal Register.

Basis and Purpose

The U.S. Coast Guard is establishing special local regulations to establish three permanent designated hydroplane race areas in Dyes Inlet, Lake Washington, and Lake Sammamish, WA within the Captain of the Port, Puget Sound Area of Responsibility. This action is necessary in order to restrict vessel movement in the vicinity of the race courses thereby promoting safety on navigable waters during these events.

Background

The Coast Guard receives numerous marine event permits for hydroplane races taking place on the waterways of Dyes Inlet, Lake Washington, and Lake Sammamish, WA. This rule establishes a special local regulation to restrict vessel movement in designated hydroplane race areas during permitted hydroplane marine events. This rule enables event sponsors and the Coast Guard to adequately provide safety in support of these marine events.

Initial Enforcement

The Coast Guard will enforce the special local regulation for Lake Washington in 33 CFR 100.1308 from 10 a.m. until 4 p.m. on April 21, 2011.

Discussion of Comments and Changes

The notice of proposed rulemaking and supplemental notice of proposed rulemaking for this rule did not receive any comments.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following small entities: The owners or operators of vessels intending to transit or anchor within these designated hydroplane race areas while enforced on the waters of northern Dyes Inlet, Lake Washington, and Lake Sammamish, Washington. This proposed rule will not have a significant economic impact on a substantial number of small entities because it is small in size and short in duration. The only vessels likely to be impacted will be recreational boaters.

Assistance for Small Entities

Under section 213(a) of the Small Business Regulatory Enforcement Fairness Act of 1996 (Pub. L. 104-121), in the NPRM we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

Taking of Private Property

This rule will not cause a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have Tribal implications under Executive Order 13175, Consultation and Coordination with Indian Tribal Governments, because it does not have a substantial direct effect on one or more Indian Tribes, on the relationship between the Federal Government and Indian Tribes, or on the distribution of power and responsibilities between the Federal Government and Indian Tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded this action is one of a category of actions that do not individually or cumulatively have a significant effect on the human environment. This rule is categorically excluded, under figure 2-1, paragraph (34)(h), of the Instruction. This rule involves a special local regulation to establish vessel movement restrictions in designated race areas immediately prior to, during and immediately following permitted hydroplane race events. An environmental analysis checklist and a categorical exclusion determination are available in the docket where indicated under ADDRESSES.

List of Subjects in 33 CFR Part 100

Marine safety, Navigation (water).

For the reasons discussed in the preamble, the Coast Guard amends 33 CFR part 100 as follows:

PART 100—REGATTAS AND MARINE PARADES

1. The authority citation for Part 100 continues to read as follows:

Authority: 33 U.S.C. 1233.

2. Add § 100.1308 to read as follows:

§ 100.1308 Special Local Regulation; Hydroplane Races within the Captain of the Port Puget Sound Area of Responsibility.

(a) Location. The following areas are designated race areas for the purpose of reoccurring hydroplane races:

(1) Dyes Inlet. West of Port Orchard, WA to include all waters north to land from a line connecting the following points 47°37.36′ N, 122°42.29′ W and 47°37.74′ N, 122°40.64′ W (NAD 1983).

(2) Lake Washington. South of the Interstate 90 bridge and north of Andrew's Bay to include all waters east of the shoreline within the following points: 47°34.15′ N, 122°16.40′ W; 47°34.31′ N, 122°15.96′ W; 47°35.18′ N, 122°16.31′ W; 47°35.00′ N, 122°16.71′ W (NAD 1983).

(3) Lake Sammamish. South to land from a line connecting the following points 47°33.810′ N, 122°04.810′ W and 47°33.810′ N, 122° 03.674′ W (NAD 1983).

(b) Notice of enforcement or suspension of enforcement. This special local regulation will be activated and thus subject to enforcement, under the following conditions: the Coast Guard must receive and approve a marine event permit for each hydroplane event in accordance with 33 CFR 100. The Captain of the Port will provide notice of the enforcement of this special local regulation by all appropriate means to ensure the widest dissemination among the affected segments of the public, as practicable; such means of notification may include but are not limited to, Broadcast Notice to Mariners or Local Notice to Mariners.

(c) Regulations. (1) When this special local regulation is enforced, non-participant vessels are prohibited from entering the designated race areas unless authorized by the designated on-scene Patrol Commander. Spectator craft may remain in designated spectator areas but must follow the directions of the designated on-scene Patrol Commander. The event sponsor may also function as the designated on-scene Patrol Commander. Spectator craft entering, exiting or moving within the spectator area must operate at speeds which will create a minimum wake.

(2) Emergency signaling. A succession of sharp, short signals by whistle or horn from vessels patrolling the areas under the discretion of the designated on-scene Patrol Commander shall serve as a signal to stop. Vessels signaled shall stop and shall comply with the orders of the patrol vessel. Failure to do so may result in expulsion from the area, citation for failure to comply, or both.

Dated: March 3, 2011.
A.T. Ewalt,
Captain, U.S. Coast Guard, Acting District Commander, Thirteenth Coast Guard District.

[FR Doc. 2011-7284 Filed 3-28-11; 8:45 am]

BILLING CODE 9110-04-P